DEPARTMENT OF AGRICULTURE

Grain Inspection, Packers and Stockyards Administration (GIPSA)

Opportunity for Designation in Fargo, ND; Urbana, IL; Sandusky, MI; Davenport, IA; Enid, OK; Keokuk, IA; Marshall, MI; and Omaha, NE Areas; Request for Comments on the Official Agencies Servicing These Areas

AGENCY: Grain Inspection, Packers and Stockyards Administration, USDA.

ACTION: Notice.

SUMMARY: North Dakota Grain Inspection Service, Inc. (North Dakota) purchased Frankfort Grain Inspection, Inc. (Frankfort) on October 1, 2015. GIPSA determined that North Dakota met the requirements specified in 7 CFR 800.196 (f)(2). The designation of North Dakota Grain Inspection Service, Inc. (North Dakota) is amended to include Frankfort and will end on December 31, 2015, which is the earliest termination date of the combined official agencies. The designations of Champaign Danville Grain Inspection Departments, Inc. (Champaign); Detroit Grain Inspection Service, Inc. (Detroit); Eastern Iowa Grain Inspection and Weighing Service, Inc. (Eastern Iowa); Enid Grain Inspection Company, Inc. (Enid); Keokuk Grain Inspection Service (Keokuk); Michigan Grain Inspection Services, Inc. (Michigan); and Omaha Grain Inspection Service, Inc. (Omaha) will end on March 31, 2016. We are asking persons or governmental agencies interested in providing official services in the areas presently served by these agencies to submit an application for designation. In addition, we are asking for comments on the quality of services provided by these agencies.

DATES: Applications and comments must be received by April 28, 2016.

ADDRESSES: Submit applications and comments concerning this Notice using any of the following methods:

• Applying for Designation on the Internet: Use FGISonline (https://fgis.gipsa.usda.gov/default_home_FGIS.aspx) and then click on the Delegations/Designations and Export Registrations (DDR) link. You will need to obtain an FGISonline customer number and USDA eAuthentication username and password prior to applying.

• Submit Comments Using the Internet: Go to Regulations.gov (http://www.regulations.gov). Instructions for submitting and reading comments are detailed on the site.

• Mail, Courier or Hand Delivery: Eric J. Jabs, Deputy Director, USDA, GIPSA, FGIS, QACD, 10383 North Ambassador Drive, Kansas City, MO 64153.

• Fax: Eric J. Jabs, 816-872-1257.

• Email: Eric.J.Jabs@usda.gov.

Read Applications and Comments: All applications and comments are available for public inspection at the office above during regular business hours (7 CFR 1.27(c)).

FOR FURTHER INFORMATION CONTACT: Eric J. Jabs, 816-659-8408 or Eric.J.Jabs@usda.gov.

SUPPLEMENTARY INFORMATION: Section 79(f) of the United States Grain Standards Act (USGSA) authorizes the Secretary to designate a qualified applicant to provide official services in a specified area after determining that the applicant is better able than any other applicant to provide such official services (7 U.S.C. 79 (f)). Under section 79(g) of the USGSA, designations of official agencies are effective for no longer than five years unless terminated by the Secretary, and may be renewed according to the criteria and procedures prescribed in section 79(f) of the USGSA.

Areas Open for Designation

Fargo, ND

Pursuant to Section 79(f)(2) of the United States Grain Standards Act, the following geographic area, as amended, in the States of Illinois, Indiana, Minnesota and North Dakota, is assigned to this official agency.

In Illinois

Bounded on the East by the eastern Cumberland County line; the eastern Jasper County line south to State Route 33; State Route 33 east-southeast to the Indiana-Illinois State line; the Indiana-Illinois State line south to the southern Gallatin County line.

Bounded on the South by the southern Gallatin, Saline, and Williamson County lines; the southern Jackson County line west to U.S. Route 51; U.S. Route 51 north to State Route 13; State Route 13 northwest to State Route 149; State Route 149 west to State Route 3; State Route 3 northwest to State Route 51; State Route 51 south to the Mississippi River.

Bounded on the West by the Mississippi River north to the northern Calhoun County line;

Bounded on the North by the northern and eastern Calhoun County lines; the northern and eastern Jersey County lines; the northern Madison County line; the western Montgomery County line north to a point on this line that intersects with a straight line, from the junction of State Route 111 and the northern Macoupin County line to the junction of Interstate 55 and State Route 16 (in Montgomery County); from this point southeast along the straight line to the junction of Interstate 55 and State Route 16; State Route 16 east-northeast to a point approximately 1 mile northeast of Irving; a straight line from this point to the northern Fayette County line; the northern Fayette, Effingham, and Cumberland County lines.

In Minnesota

Koochiching, St. Louis, Lake, Cook, Itasca, Norman, Mahnomen, Hubbard, Cass, Clay, Becker, Wadena, Crow Wing, Aitkin, Carlton, Wilkin, and Otter Tail Counties, except those export port locations within the State, which are serviced by GIPSA.

In North Dakota

Bounded on the North by the northern Steele County line from State Route 32 east; the northern Steele and Trail County lines east to the North Dakota State line.

Bounded on the East by the eastern North Dakota State line.

Bounded on the South by the southern North Dakota State line west to State Route 1.

Bounded on the West by State Route 1 north to Interstate 94; Interstate 94 east to the Soo Railroad line; the Soo Railroad line northwest to State Route 1; State Route 1 north to State Route 200; State Route 200 east to State Route 45; State Route 45 north to State Route 32; State Route 32 north.

In Indiana

Bartholomew, Blackford, Boone, Brown, Carroll (south of State Route 25), Cass, Clinton, Delaware, Fayette, Fulton (bounded on east by eastern Fulton County line south to State Route 19; State Route 19 south to State Route 114; State Route 114 southeast to eastern Fulton County line), Grant, Hamilton, Hancock, Hendricks, Henry, Howard, Jay, Johnson, Madison, Marion, Miami, Monroe, Montgomery, Morgan, Randolph, Richmond, Rush (north of State Route 244), Shelby, Tipton, Union, and Wayne Counties.

In Ohio

Darke County.

The following grain elevators are not part of this geographic area assignment and are assigned to Titus Grain Inspection, Inc.: The Andersons, Delphi, Carroll County; Frick Services, Inc., Leiters Ford, Fulton County; and Cargill, Inc., Linden, Montgomery County, Indiana.

Urbana, IL

Pursuant to Section 79(f)(2) of the United States Grain Standards Act, the following geographic area, in the States of Illinois, Indiana, and Michigan, is assigned to this official agency.

In Illinois

Bounded on the North by the northern Schuyler, Cass, and Menard County lines; the western Logan County line north to State Route 10; State Route 10 east to the west side of Beason.

Bounded on the East by a straight line from the west side of Beason southwest to Elkhart on Interstate 55; a straight line from Elkhart southeast to Stonington on State Route 48; a straight line from Stonington southwest to Irving on State Route 16.

Bounded on the South by State Route 16 west to the eastern Macoupin County line; the eastern, southern, and western Macoupin County lines; the southern and western Greene County lines; the southern Pike County line.

Bounded on the West by the western Pike County line west to U.S. Route 54; U.S. Route 54 northeast to State Route 107; State Route 107 northeast to State Route 104; State Route 104 east to the western Morgan County line; the western Morgan, Cass, and Schuyler County lines.

In Illinois and Indiana

Bounded on the North by the northern Livingston County line from State Route 47; the eastern Livingston County line to the northern Ford County line; the northern Ford and Iroquois County lines east to Interstate 57; Interstate 57 north to the northern Will County line; Bounded on the North by the northern Will County line from Interstate 57 east to the Illinois-Indiana State line; the Illinois-Indiana State line north to the northern Lake County line; the northern Lake, Porter, Laporte, St. Joseph, and Elkhart County lines.

Bounded on the East by the eastern and southern Elkhart County lines; the eastern Marshall County line; Bounded on the South by the southern Marshall and Starke County lines; the eastern Jasper County line south-southwest to U.S. Route 24; U.S. Route 24 west to Indiana State Route 55; Indiana State Route 55 south to the Newton County line; the southern Newton County line west to U.S. Route 41; Bounded on the East by U.S. Route 41 south to the northern Parke County line; the northern Parke and Putnam County lines; the eastern Putnam, Owen, and Greene County lines.

Bounded on the South by the southern Greene County line; the southern Sullivan County line west to U.S. Route 41(150); U.S. Route 41(150) south to U.S. Route 50; U.S. Route 50 west across the Indiana-Illinois State line to Illinois State Route 33; Illinois State Route 33 north and west to the Western Crawford County line.

Bounded on the West by the western Crawford and Clark County lines; the Southern Coles County line; the western Coles and Douglas County lines; the western Champaign County line north to Interstate 72; Interstate 72 southwest to the Piatt County line; the western Piatt County line; the southern McLean County line west to a point 10 miles west of the western Champaign County line, from this point through Arrowsmith to Pontiac along a straight line running north and south which intersects with State Route 116; State Route 116 east to State Route 47; State Route 47 north to the northern Livingston County line.

In Michigan

Berrien, Cass, and St. Joseph Counties.

Champaign's assigned geographic area does not include the export port locations inside Champaign's area, which are serviced by GIPSA. The following grain elevators are part of this geographic area assignment: In Decatur Grain Inspection, Inc.'s area: Okaw Cooperative, Cadwell, Moultrie County; ADM (3 elevators), Farmer City, Dewitt County; and Topflight Grain Company, Monticello, Piatt County, Illinois. In Central Illinois Grain Inspection, Inc.'s area: East Lincoln Farmers Grain Co., Lincoln, Logan County, Illinois.

The following grain elevator is not part of this geographic area assignment and is assigned to Titus Grain Inspection, Inc., Boswell Chase Grain, Inc., Boswell, Benton County, Indiana.

Sandusky, MI

Pursuant to Section 79(f)(2) of the United States Grain Standards Act, the following geographic area, in the State of Michigan, is assigned to this official agency.

In Michigan

Bounded on the North by the northern Clinton County line; the eastern Clinton County line south to State Route 21; State Route 21 east to State Route 52; State Route 52 north to the Shiawassee County line; the northern Shiawassee County line east to the Genesee County line; the western Genesee County line; the northern Genesee County line east to State Route 15; State Route 15 north to Barnes Road; Barnes Road east to Sheridan Road; Sheridan Road north to State Route 46; State Route 46 east to State Route 53; State Route 53 north to the Michigan State line.

Bounded on the East by the Michigan State line south to State Route 50.

Bounded on the South by State Route 50 west to U.S. Route 127.

Bounded on the West by U.S. Route 127 north to U.S. Route 27; U.S. Route 27 north to the northern Clinton County line.

Davenport, IA

Pursuant to Section 79(f)(2) of the United States Grain Standards Act, the following geographic areas, in the States of Illinois, Iowa, and Wisconsin, are assigned to this official agency.

In Illinois and Iowa

Northern Area:

Jo Daviess, Stephenson, Winnebago, Boone, McHenry, Lake, Will DuPage, Kendall, DeKalb, Lee, and Ogle Counties in Illinois and Delaware and Dubuque Counties in Iowa.

Southern Area:

Bounded on the North, in Iowa, by Interstate 80 from the western Iowa County line east to State Route 38; State Route 38 north to State Route 130; State Route 130 east to the Mississippi River.

Bounded on the East, in Illinois, from the Mississippi River to the eastern Rock Island County line; the northern Henry and Bureau County lines; east to State Route 40; State Route 40 south to the southern Bureau County line; the eastern and southern Henry County lines; the eastern Knox County line.

Bounded on the South by the southern Knox County line; the eastern and southern Warren County lines; the southern Henderson County line across the Mississippi River; in Iowa, by the southern Des Moines, Henry, Jefferson, and Wapello County lines.

Bounded on the West by the western and northern Wapello County lines; the western and northern Keokuk County lines; the western Iowa County line north to Interstate 80.

In Wisconsin

The entire State of Wisconsin, for domestic services.

All export port locations within Eastern Iowa's assigned geographic areas in the State of Illinois are serviced by GIPSA and in the State of Wisconsin are serviced by GIPSA (Milwaukee) and the Wisconsin Department of Agriculture (Superior).

Enid, OK

Pursuant to Section 79(f)(2) of the United States Grain Standards Act, the following geographic areas, in the States of Oklahoma and Texas, are assigned to this official agency.

In Oklahoma

Adair, Alfalfa, Atoka, Beckham, Blaine, Bryan, Caddo, Canadian, Carter, Cherokee, Choctaw, Cleveland, Coal, Comanche, Cotton, Craig, Creek, Custer, Delaware, Dewey, Ellis, Garfield, Garvin, Grady, Grant, Greer, Harmon, Harper, Haskell, Hughes, Jackson, Jefferson, Johnston, Kay, Kingfisher, Kiowa, Latimer, Le Flore, Lincoln, Logan, Love, McClain, McCurtain, McIntosh, Major, Marshall, Mayes, Murray, Muskogee, Noble, Nowata, Okfuskee, Oklahoma, Okmulgee, Osage, Ottawa, Pawnee, Payne, Pittsburg, Pontotoc, Pottawatomie, Pushmataha, Roger Mills, Rogers, Seminole, Sequoyah, Stephens, Tillman, Tulsa, Wagoner, Washington, Washita, Woods, and Woodward Counties.

In Texas

Clay, Wichita, and Wilbarger Counties.

Keokuk, IA

Pursuant to Section 79(f)(2) of the United States Grain Standards Act, the following geographic areas, in the States of Illinois and Iowa, are assigned to this official agency.

In Illinois

Adams, Brown, Fulton, Hancock, Mason, McDonough, and Pike (northwest of a line bounded by U.S. Route 54 northeast to State Route 107; State Route 107 northeast to State Route 104; State Route 104 east to the eastern Pike County line) Counties.

In Iowa

Davis, Lee, and Van Buren Counties.

Marshall, MI

Pursuant to Section 79(f)(2) of the United States Grain Standards Act, the following geographic area, in the States of Michigan and Ohio, is assigned to this official agency.

In Michigan

Bounded on the North by the northern Michigan State line.

Bounded on the East by the eastern Michigan State line south and east to State Route 53; State Route 53 south to State Route 46; State Route 46 west to Sheridan Road; Sheridan Road south to Barnes Road; Barnes Road west to State Route 15; State Route 15 south to the Genesee County line; the northern Genesee County line west to the Shiawassee County line; the northern Shiawassee County line west to State Route 52; State Route 52 south to State Route 21; State Route 21 west to Clinton County; the eastern and northern Clinton County lines west to U.S. Route 27; U.S. Route 27 south to U.S. Route 127; U.S. Route 127 south to the Michigan-Ohio State line.

In Ohio

The northern State line east to the eastern Fulton County line; the eastern Fulton, Henry, and Putnam County lines; the eastern Allen County line south to the northern Hardin County line; the northern Hardin County line east to U.S. Route 68; U.S. Route 68 south to State Route 47.

Bounded on the South by State Route 47 west-southwest to Interstate 75 (excluding all of Sidney, Ohio); Interstate 75 south to the Shelby County line; the southern and western Shelby County lines; the southern Mercer County line.

Bounded on the West by the Ohio-Indiana State line from the southern Mercer County line to the northern Williams County line; in Michigan, by the southern Michigan State line west to the Branch County line; the western Branch County line north to the Kalamazoo County line; the southern Kalamazoo and Van Buren County lines west to the Michigan State line; the western Michigan State line north to the northern Michigan State line.

The following grain elevators are not part of this geographic area assignment and are assigned to Northeast Indiana Grain Inspection, Inc: Trupointe Elevator, Payne, Paulding County, Ohio.

Omaha, NE

Pursuant to Section 79(f)(2) of the United States Grain Standards Act, the following geographic areas, in the States of Iowa and Nebraska, are assigned to this official agency.

In Iowa and Nebraska

Bounded on the North by Nebraska State Route 91 from the western Washington County line east to U.S. Route 30; U.S. Route 30 east to the Missouri River; the Missouri River north to Iowa State Route 175; Iowa State Route 175 east to Iowa State Route 37; Iowa State Route 37 southeast to the eastern Monona County line.

Bounded on the East by the eastern Monona County line; the southern Monona County line west to Iowa State Route 183; Iowa State Route 183 south to the Pottawattamie County line; the northern and eastern Pottawattamie County lines; the southern Pottawattamie County line west to M47; M47 south to Iowa State Route 48; Iowa State Route 48 south to the Montgomery County line.

Bounded on the South by the southern Montgomery County line; the southern Mills County line west to Interstate 29; Interstate 29 north to U.S. Route 34; U.S. Route 34 west to the Missouri River; the Missouri River north to the Sarpy County line (in Nebraska); the southern Sarpy County line; the southern Saunders County line west to U.S. Route 77.

Bounded on the West by U.S. Route 77 north to the Platte River; the Platte River southeast to the Douglas County line; the northern Douglas County line east; the western Washington County line northwest to Nebraska State Route 91.

The following grain elevators are part of this geographic area assignment: In Central Iowa Grain Inspection Service, Inc.'s area: Scoular Elevator, Elliot, Montgomery County and two Scoular elevators, Griswold, Cass County, Iowa. In Fremont Grain Inspection Department, Inc.'s area: United Farmers Coop, Rising City, Butler County and United Farmers Coop, Shelby, Polk County, Nebraska. In Lincoln Inspection Service, Inc.'s area: Goode Seed & Grain, McPaul, Fremont County, Iowa; and Haveman Grain, Murray, Cass County, Nebraska.

The following grain elevators are not part of this geographic area assignment and are assigned to Fremont Grain Inspection Department, Inc.: Farmers Union Cooperative Association and Krumel Grain and Storage, Wahoo, Saunders County, Nebraska.

Opportunity for Designation

Interested persons or governmental agencies may apply for designation to provide official services in the geographic areas specified above under the provisions of section 79(f) of the USGSA and 7 CFR 800.196. Designation for North Dakota is for the period beginning January 1, 2016, to December 31, 2020. Designation for Champaign, Detroit, Eastern Iowa, Enid, Keokuk, Michigan, and Omaha is for April 1, 2016, to March 31, 2021. To apply for designation or to request more information, contact Eric J. Jabs at the address listed above.

Request for Comments

We are publishing this Notice to provide interested persons the opportunity to comment on the quality of services provided by the North Dakota, Champaign, Detroit, Eastern Iowa, Enid, Keokuk, Michigan, and Omaha official agencies. In the designation process, we are particularly interested in receiving comments citing reasons and pertinent data supporting or objecting to the designation of the applicants. Submit all comments to Eric J. Jabs at the above address or at http://www.regulations.gov.

We consider applications, comments, and other available information when determining which applicants will be designated.

Authority: 7 U.S.C. 71-87k.

Larry Mitchell,
Administrator, Grain Inspection, Packers and Stockyards Administration.

[FR Doc. 2016-07000 Filed 3-28-16; 8:45 am]

BILLING CODE 3410-KD-P